DEPARTMENT OF ENERGY

Federal Energy Regulatory Commission

Combined Notice of Filings #1

Take notice that the Commission received the following exempt wholesale generator filings:

Docket Numbers: EG24-55-000.

Applicants: Moonshot Solar, LLC.

Description: Moonshot Solar, LLC submits Notice of Self-Certification of Exempt Wholesale Generator Status.

Filed Date: 12/13/23.

Accession Number: 20231213-5062.

Comment Date: 5 p.m. ET 1/3/24.

Docket Numbers: EG24-56-000.

Applicants: PGR 2022 Lessee 5, LLC.

Description: PGR 2022 Lessee 5, LLC submits Notice of Self-Certification of Exempt Wholesale Generator Status.

Filed Date: 12/13/23.

Accession Number: 20231213-5067.

Comment Date: 5 p.m. ET 1/3/24.

Take notice that the Commission received the following Complaints and Compliance filings in EL Dockets:

Docket Numbers: EL24-37-000; QF87-237-026.

Applicants: Midland Cogeneration Venture Limited Partnership, Midland Cogeneration Venture Limited Partnership.

Description: Request for Waiver of the Operating and Efficiency Standards for a Topping-Cycle Cogeneration Facility of Midland Cogeneration Venture Limited Partnership.

Filed Date: 12/6/23.

Accession Number: 20231206-5197.

Comment Date: 5 p.m. ET 12/27/23.

Take notice that the Commission received the following electric rate filings:

Docket Numbers: ER22-962-006.

Applicants: PJM Interconnection, L.L.C.

Description: Compliance filing: Order No. 2222 Compliance Filing to be effective 7/1/2024.

Filed Date: 12/13/23.

Accession Number: 20231213-5055.

Comment Date: 5 p.m. ET 1/3/24.

Docket Numbers: ER24-627-000.

Applicants: Mammoth North LLC.

Description: Baseline eTariff Filing: Baseline new reactive rate tariff to be effective 6/30/2024.

Filed Date: 12/12/23.

Accession Number: 20231212-5159.

Comment Date: 5 p.m. ET 1/2/24.

Docket Numbers: ER24-628-000.

Applicants: Dominion Energy South Carolina, Inc.

Description: 205(d) Rate Filing: Southeastern Power Admin NITSA to be effective 1/1/2024.

Filed Date: 12/13/23.

Accession Number: 20231213-5035.

Comment Date: 5 p.m. ET 1/3/24.

Docket Numbers: ER24-629-000.

Applicants: Lancaster Solar LLC.

Description: 205(d) Rate Filing: Revised Market-Based Rate Tariff to be effective 12/14/2023.

Filed Date: 12/13/23.

Accession Number: 20231213-5053.

Comment Date: 5 p.m. ET 1/3/24.

Docket Numbers: ER24-630-000.

Applicants: Odom Solar LLC.

Description: 205(d) Rate Filing: Revised Market-Based Rate Tariff to be effective 12/14/2023.

Filed Date: 12/13/23.

Accession Number: 20231213-5056.

Comment Date: 5 p.m. ET 1/3/24.

Docket Numbers: ER24-631-000.

Applicants: SR Arlington II MT, LLC.

Description: 205(d) Rate Filing: Revised Market-Based Rate Tariff to be effective 12/14/2023.

Filed Date: 12/13/23.

Accession Number: 20231213-5058.

Comment Date: 5 p.m. ET 1/3/24.

Docket Numbers: ER24-632-000.

Applicants: SR Arlington II, LLC.

Description: 205(d) Rate Filing: Revised Market-Based Rate Tariff to be effective 12/14/2023.

Filed Date: 12/13/23.

Accession Number: 20231213-5068.

Comment Date: 5 p.m. ET 1/3/24.

Docket Numbers: ER24-633-000.

Applicants: SR Arlington, LLC.

Description: 205(d) Rate Filing: Revised Market-Based Rate Tariff to be effective 12/14/2023.

Filed Date: 12/13/23.

Accession Number: 20231213-5072.

Comment Date: 5 p.m. ET 1/3/24.

Docket Numbers: ER24-634-000.

Applicants: Chevelon Butte RE II LLC.

Description: 205(d) Rate Filing: Chevelon Butte RE II LLC Shared Facilities Agreement Concurrence to be effective 12/14/2023.

Filed Date: 12/13/23.

Accession Number: 20231213-5076.

Comment Date: 5 p.m. ET 1/3/24.

Docket Numbers: ER24-635-000.

Applicants: SR Baxley, LLC.

Description: 205(d) Rate Filing: Revised Market-Based Rate Tariff to be effective 12/14/2023.

Filed Date: 12/13/23.

Accession Number: 20231213-5077.

Comment Date: 5 p.m. ET 1/3/24.

Docket Numbers: ER24-636-000.

Applicants: SR Cedar Springs, LLC.

Description: 205(d) Rate Filing: Revised Market-Based Rate Tariff to be effective 12/14/2023.

Filed Date: 12/13/23.

Accession Number: 20231213-5079.

Comment Date: 5 p.m. ET 1/3/24.

Docket Numbers: ER24-637-000.

Applicants: SR Clay, LLC.

Description: 205(d) Rate Filing: Revised Market-Based Rate Tariff to be effective 12/14/2023.

Filed Date: 12/13/23.

Accession Number: 20231213-5095.

Comment Date: 5 p.m. ET 1/3/24.

Docket Numbers: ER24-638-000.

Applicants: SR DeSoto I Lessee, LLC.

Description: 205(d) Rate Filing: Revised Market-Based Rate Tariff to be effective 12/14/2023.

Filed Date: 12/13/23.

Accession Number: 20231213-5098.

Comment Date: 5 p.m. ET 1/3/24.

Docket Numbers: ER24-639-000.

Applicants: SR DeSoto I, LLC.

Description: 205(d) Rate Filing: Revised Market-Based Rate Tariff to be effective 12/14/2023.

Filed Date: 12/13/23.

Accession Number: 20231213-5105.

Comment Date: 5 p.m. ET 1/3/24.

Docket Numbers: ER24-640-000.

Applicants: SR DeSoto II, LLC.

Description: 205(d) Rate Filing: Revised Market-Based Rate Tariff to be effective 12/14/2023.

Filed Date: 12/13/23.

Accession Number: 20231213-5112.

Comment Date: 5 p.m. ET 1/3/24.

Docket Numbers: ER24-641-000.

Applicants: SR DeSoto III Lessee, LLC.

Description: 205(d) Rate Filing: Revised Market-Based Rate Tariff to be effective 12/14/2023.

Filed Date: 12/13/23.

Accession Number: 20231213-5115.

Comment Date: 5 p.m. ET 1/3/24.

Docket Numbers: ER24-642-000.

Applicants: SR DeSoto III, LLC.

Description: 205(d) Rate Filing: Revised Market-Based Rate Tariff to be effective 12/14/2023.

Filed Date: 12/13/23.

Accession Number: 20231213-5119.

Comment Date: 5 p.m. ET 1/3/24.

Docket Numbers: ER24-643-000.

Applicants: SR Georgia Portfolio I MT, LLC.

Description: 205(d) Rate Filing: Revised Market-Based Rate Tariff to be effective 12/14/2023.

Filed Date: 12/13/23.

Accession Number: 20231213-5124.

Comment Date: 5 p.m. ET 1/3/24.

Docket Numbers: ER24-644-000.

Applicants: SR Georgia Portfolio II Lessee, LLC.

Description: 205(d) Rate Filing: Revised Market-Based Rate Tariff to be effective 12/14/2023.

Filed Date: 12/13/23.

Accession Number: 20231213-5133.

Comment Date: 5 p.m. ET 1/3/24.

Docket Numbers: ER24-645-000.

Applicants: SR Hazlehurst III, LLC.

Description: 205(d) Rate Filing: Revised Market-Based Rate Tariff to be effective 12/14/2023.

Filed Date: 12/13/23.

Accession Number: 20231213-5138.

Comment Date: 5 p.m. ET 1/3/24.

Docket Numbers: ER24-647-000.

Applicants: SR Hazlehurst, LLC.

Description: 205(d) Rate Filing: Revised Market-Based Rate Tariff to be effective 12/14/2023.

Filed Date: 12/13/23.

Accession Number: 20231213-5141.

Comment Date: 5 p.m. ET 1/3/24.

Docket Numbers: ER24-648-000.

Applicants: SR Lumpkin, LLC.

Description: 205(d) Rate Filing: Revised Market-Based Tariff to be effective 12/14/2023.

Filed Date: 12/13/23.

Accession Number: 20231213-5143.

Comment Date: 5 p.m. ET 1/3/24.

Docket Numbers: ER24-649-000.

Applicants: SR Meridian III, LLC.

Description: 205(d) Rate Filing: Revised Market-Based Rate Tariff to be effective 12/14/2023.

Filed Date: 12/13/23.

Accession Number: 20231213-5149.

Comment Date: 5 p.m. ET 1/3/24.

Docket Numbers: ER24-650-000.

Applicants: SR Perry, LLC.

Description: 205(d) Rate Filing: Revised Market-Based Rate Tariff to be effective 12/14/2023.

Filed Date: 12/13/23.

Accession Number: 20231213-5153.

Comment Date: 5 p.m. ET 1/3/24.

Docket Numbers: ER24-651-000.

Applicants: SR Snipesville II, LLC.

Description: 205(d) Rate Filing: Revised Market-Based Rate Tariff to be effective 12/14/2023.

Filed Date: 12/13/23.

Accession Number: 20231213-5176.

Comment Date: 5 p.m. ET 1/3/24.

Docket Numbers: ER24-652-000.

Applicants: SR Snipesville III, LLC.

Description: 205(d) Rate Filing: Revised Market-Based Rate Tariff to be effective 12/14/2023.

Filed Date: 12/13/23.

Accession Number: 20231213-5180.

Comment Date: 5 p.m. ET 1/3/24.

Docket Numbers: ER24-653-000.

Applicants: GenOn REMA, LLC.

Description: Tariff Amendment: Notice of Cancellation to be effective 12/14/2023.

Filed Date: 12/13/23.

Accession Number: 20231213-5181.

Comment Date: 5 p.m. ET 1/3/24.

Docket Numbers: ER24-654-000.

Applicants: SR Snipesville, LLC.

Description: 205(d) Rate Filing: Revised Market-Based Rate Tariff to be effective 12/14/2023.

Filed Date: 12/13/23.

Accession Number: 20231213-5186.

Comment Date: 5 p.m. ET 1/3/24.

Docket Numbers: ER24-655-000.

Applicants: GenOn Power Midwest, LP.

Description: Tariff Amendment: Notice of Cancellation to be effective 12/14/2023.

Filed Date: 12/13/23.

Accession Number: 20231213-5189.

Comment Date: 5 p.m. ET 1/3/24.

Docket Numbers: ER24-656-000.

Applicants: SR Terrell, LLC.

Description: 205(d) Rate Filing: Revised Market-Based Tariff to be effective 12/14/2023.

Filed Date: 12/13/23.

Accession Number: 20231213-5190.

Comment Date: 5 p.m. ET 1/3/24.

Docket Numbers: ER24-657-000.

Applicants: GenOn California South, LP.

Description: Tariff Amendment: Notice of Cancellation to be effective 12/14/2023.

Filed Date: 12/13/23.

Accession Number: 20231213-5193.

Comment Date: 5 p.m. ET 1/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 13, 2023.
Debbie-Anne A. Reese,
Deputy Secretary.

[FR Doc. 2023-27885 Filed 12-19-23; 8:45 am]

BILLING CODE 6717-01-P